COMMODITY FUTURES TRADING COMMISSION

Agricultural Advisory Committee

AGENCY: Commodity Futures Trading Commission.

ACTION: Notice of Meeting.

SUMMARY: The Commodity Futures Trading Commission (CFTC) announces that on Thursday, April 11, 2019, from 8:30 a.m. to 12 p.m. Central Time, the Agricultural Advisory Committee (AAC) will hold a public meeting at the Marriott Kansas City Overland Park, 10800 Metcalf Avenue, Overland Park, Kansas 66210. At this meeting, the AAC will discuss items related to futures commission merchants (FCMs), innovations in agricultural cash markets and futures market operations, as well as identify work streams and/or subcommittee groups that can help generate actionable recommendations to the Commission on select issues.

DATES: The meeting will be held on Thursday, April 11, 2019, from 8:30 a.m. to 12 p.m. Central Time. Members of the public who wish to submit written statements in connection with the meeting should submit them by April 18, 2018.

ADDRESSES: The meeting will take place at the Marriott Kansas City Overland Park, 10800 Metcalf Avenue, Overland Park, Kansas 66210. You may submit public comments, identified by “Agricultural Advisory Committee,” by any of the following methods:

• CFTC website: http://comments.cftc.gov. Follow the instructions for submitting comments through the Comments Online process on the website.

• Mail: Christopher Kirkpatrick, Secretary of the Commission, Commodity Futures Trading Commission, Three Lafayette Center, 1155 21st Street NW, Washington, DC 20581.

• Hand Delivery/Courier: Same as Mail, above.

Any statements submitted in connection with the committee meeting will be made available to the public, including publication on the CFTC website, http://www.cftc.gov.

FOR FURTHER INFORMATION CONTACT: Charlie Thornton, AAC Designated Federal Officer, Commodity Futures Trading Commission, Three Lafayette Centre, 1155 21st Street NW, Washington, DC 20581; (202) 418-5500.

SUPPLEMENTARY INFORMATION: The meeting will be open to the public with seating on a first-come, first-served basis. The meeting agenda may change to accommodate other AAC priorities. For agenda updates and instructions to access the meeting via phone and the internet (forthcoming), please visit the AAC committee site at: http://www.cftc.gov/About/CFTCCommittees/AgriculturalAdvisory/aac_meetings. After the meeting, a transcript of the meeting will be published through a link on the CFTC's website, http://www.cftc.gov. All written submissions provided to the CFTC in any form will also be published on the CFTC's website. Persons requiring special accommodations to attend the meeting such as sign language interpretation or other ancillary aids because of a disability are asked to notify the contact person above at least (10) days in advance of the meeting.

(Authority: 5 U.S.C. app. 2 § 10(a)(2)).

Dated: March 21, 2019.
Robert Sidman,
Deputy Secretary of the Commission.

[FR Doc. 2019-05756 Filed 3-25-19; 8:45 am]

BILLING CODE 6351-01-P